DEPARTMENT OF ENERGY

Federal Energy Regulatory Commission

[Docket No. CP04-14-005]

Saltville Gas Storage Company L.L.C.; Notice of Compliance Filing

April 26, 2005.

Take notice that on April 20, 2005, Saltville Gas Storage Company L.L.C. (Saltville) submitted a compliance filing pursuant to the “Order on Compliance Filing and Granting Clarification” issued by the Commission on March 23, 2005 (March 23 Order), in the referenced dockets. Saltville states that the filing reflects revisions to sections 3.1(g) and 3.2 of Saltville's FERC Gas Tariff to include the statement that customers offering to pay the maximum recourse rate will receive the same consideration for service as those willing to pay a mutually agreeable rate, as required by Paragraph 18 of the March 23 Order.

Saltville states that copies of the filing were served on all parties on the official service list in the above captioned proceeding, as well as to all affected customers of Saltville and interested state commissions.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-2104 Filed 5-2-05; 8:45 am]

BILLING CODE 6717-01-P